ENVIRONMENTAL PROTECTION AGENCY

40 CFR Parts 52 and 81

[R05-OAR-2005-IN-0004; FRL-7972-6]

Approval and Promulgation of Implementation Plans and Designation of Areas for Air Quality Planning Purposes; Indiana; Lake County Sulfur Dioxide Regulations, Redesignation and Maintenance Plan

AGENCY: Environmental Protection Agency (EPA).

ACTION: Final rule.

SUMMARY: EPA is approving a State Implementation Plan (SIP) revision for the control of sulfur dioxide (SO2) emissions in Lake County, Indiana. The SIP revision submitted by the Indiana Department of Environmental Management (IDEM) amends 326 Indiana Administrative Code (IAC) Article 7. Indiana's revised SO2 rule consists of changes to 326 IAC 7-4 which sets forth facility-specific SO2 emission limitations and recordkeeping requirements for Lake County. The rule revision also reflects updates to company names, updates to emission limits currently in permits, deletion of facilities that are already covered by natural gas limits, and other corrections and updates. Due to changes in section numbers, references to citations in other parts of the rule have also been updated. EPA is also approving a request to redesignate the Lake County nonattainment area to attainment of the SO2 National Ambient Air Quality Standards (NAAQS). In conjunction with these actions, EPA is also approving the maintenance plan for the Lake County nonattainment area to ensure that attainment of the NAAQS will be maintained. The SIP revision, redesignation request and maintenance plan are approvable because they satisfy the requirements of the Clean Air Act (Act).

DATES: This final rule is effective on October 26, 2005.

ADDRESSES: EPA has established a docket for this action under Regional Material in EDocket (RME) Docket ID No. R05-OAR-2005-IN-0004. All documents in the docket are listed in the RME index at http://docket.epa.gov/rmepub/, once in the system, select “quick search,” then key in the appropriate RME Docket identification number. Although listed in the index, some information is not publicly available, i.e., Confidential Business Information (CBI) or other information whose disclosure is restricted by statute. Certain other material, such as copyrighted material, is not placed on the Internet and will be publicly available only in hard copy form. Publicly available docket materials are available either electronically in RME or in hard copy at the Environmental Protection Agency, Region 5, Air and Radiation Division, 77 West Jackson Boulevard, Chicago, Illinois 60604. We recommend that you telephone Christos Panos, Environmental Engineer, at (312) 353-8328 before visiting the Region 5 office. This Facility is open from 8:30 a.m. to 4:30 p.m., Monday through Friday, excluding legal holidays.

FOR FURTHER INFORMATION CONTACT: Christos Panos, Environmental Engineer, Criteria Pollutant Section, Air Programs Branch (AR-18J), U.S. Environmental Protection Agency, Region 5, 77 West Jackson Boulevard, Chicago, Illinois 60604, (312) 353-8328. panos.christos@epa.gov.

SUPPLEMENTARY INFORMATION: Throughout this document whenever “we,” “us,” or “our” is used, we mean EPA. This supplemental information section is arranged as follows:

I. What Is the Background for This Action?

II. What Comments Did We Receive on the Proposed Action?

III. What Action Is EPA Taking Today?

IV. Statutory and Executive Order Reviews

I. What Is the Background for This Action?

On July 29, 2005 (70 FR 43820) EPA proposed to approve into the Indiana SIP SO2 emission limitations applicable in Lake County, Indiana. Specifically, EPA proposed to approve amendments to rules 326 IAC 7-1.1-1, 326 IAC 7-1.1-2, 326 IAC 7-2-1, and newly created 326 IAC 7-4.1. The revised rules were adopted by the Indiana Air Pollution Control Board on March 2, 2005, and were submitted by IDEM to EPA on April 8, 2005. IDEM submitted a supplement to its submission on July 6, 2005, indicating that the revised rules became effective June 24, 2005, and were published in the Indiana Register on July 1, 2005. EPA proposed to approve the SO2 redesignation request submitted by the State of Indiana on June 21, 2005 to redesignate the Lake County SO2 nonattainment area to attainment of the SO2 NAAQS. IDEM submitted a supplement to its submission on August 11, 2005, indicating that the State's public comment period concluded on July 29, 2005, and that no comments were received. Finally, EPA proposed to approve the maintenance plan submitted for this area.

EPA proposed this action because the State's submittal for the Lake County SO2 nonattainment area met the requirements of the Act. The revised rules amend SO2 requirements for many sources in the nonattainment area, and reflect a reduction of over 30,000 tons of SO2 per year of allowable emissions compared to the emission limits in the previously approved 1989 SIP. The SIP revision provides for attainment and maintenance of the SO2 NAAQS and satisfies the requirements of part D of the Act applicable to SO2 nonattainment areas. Further, EPA proposed to approve the maintenance plan and redesignation of the Lake County SO2 nonattainment area to attainment because the State has met the redesignation and maintenance plan requirements of the Act. A more detailed explanation of how the State's submittal meets these requirements is contained in our July 29, 2005 proposal.

II. What Comments Did We Receive on the Proposed Action?

EPA provided a 30-day review and comment period on the proposal published in the Federal Register on July 29, 2005 (70 FR 43820). We received no comments on our proposed rulemaking.

III. What Action Is EPA Taking Today?

EPA is approving the SIP revision for the control of SO2 emissions in Lake County, Indiana, as requested by the State on April 8, 2005, and supplemented on July 6, 2005. The revision consists of the amended rule at 326 Indiana Administrative Code (IAC) Article 7. In this rule, the requirements in the Table in 326 IAC 7-4-1.1 have been divided into separate sections for each facility for clarity and ease of future rule actions. The new rule, 326 IAC 7-4.1, replaces 326 IAC 7-4-1.1, which will be repealed. Because the State has complied with the requirements of section 107(d)(3)(E) of the Act, EPA is also approving the redesignation of the Lake County nonattainment area to attainment of the SO2 NAAQS, as requested by the State on June 21, 2005. In conjunction with these actions, EPA is also approving Indiana's maintenance plan for the Lake County SO2 nonattainment area as a SIP revision because it meets the requirements of section 175A of the Act.

IV. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under Section 307(b)(1) of the Clean Air Act, petitions for judicial review of this action must be filed in the United States Court of Appeals for the appropriate circuit by November 25, 2005. Filing a petition for reconsideration by the Administrator of this final rule does not affect the finality of this rule for the purposes of judicial review nor does it extend the time within which a petition for judicial review may be filed, and shall not postpone the effectiveness of such rule or action. This action may not be challenged later in proceedings to enforce its requirements. (See Section 307(b)(2).)

List of Subjects

40 CFR Part 52

Environmental protection, Air pollution control, Incorporation by reference, Intergovernmental relations, Reporting and recordkeeping requirements, Sulfur oxides.

40 CFR Part 81

Air pollution control, National parks, Wilderness areas.

Dated: September 13, 2005.
Bharat Mathur,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(172) to read as follows:

§ 52.770 Identification of plan.

* * * * *

(c) * * *

(172) On April 8, 2005, and as supplemented on July 6, 2005, Indiana submitted a State Implementation Plan (SIP) revision for the control of sulfur dioxide (SO2) emissions in Lake County, Indiana. The SIP revision submitted by the Indiana Department of Environmental Management (IDEM) amends 326 Indiana Administrative Code (IAC) Article 7. Indiana's revised SO2 rule consists of changes to 326 IAC 7-4 which sets forth facility-specific SO2 emission limitations and recordkeeping requirements for Lake County. The rule revision also reflects updates to company names, updates to emission limits currently in permits, deletion of facilities that are already covered by natural gas limits, and other corrections and updates. Due to changes in section numbers, references to citations in other parts of the rule have also been updated.

(i) Incorporation by reference.

(A) Amendments to Indiana Administrative Code Title 326: Air Pollution Control Board, Article 7 SULFUR DIOXIDE RULES, Rule 1.1 Sulfur Dioxide Emission Limitations, sections 326 IAC 7-1.1-1, “Applicability”, 326 IAC 7-1.1-2 “Sulfur Dioxide Emission Limitations”, and 326 IAC 7-2-1 “Reporting Requirements: Methods to Determine Compliance”; newly created 326 IAC 7-4.1, “Lake County Sulfur Dioxide Emission Limitations”, adopted by the Indiana Air Pollution Control Board on March 2, 2005. Filed with the Secretary of State May 25, 2005, effective June 24, 2005.

3. Section 52.795 is amended by adding a new paragraph (h) to read as follows:

§ 52.795 Control strategy: sulfur dioxide.

* * * * *

(h) Approval—On June 21, 2005, and as supplemented on August 11, 2005, the State of Indiana submitted a request to redesignate the Lake County sulfur dioxide (SO2) nonattainment area to attainment of the NAAQS. In its submittal, the State also requested that EPA approve the maintenance plan for the area into the Indiana SO2 SIP. The redesignation request and maintenance plan satisfy all applicable requirements of the Clean Air Act.

PART 81—DESIGNATION OF AREAS FOR AIR QUALITY PLANNING PURPOSES

1. The authority citation for part 81 continues to read as follows:

Authority: 42 U.S.C. 7401 et seq.

2. Section 81.315 is amended by revising the entry for Lake County in the table entitled “Indiana—SO2” to read as follows:

§ 81.315 Indiana.

* * * * *

Indiana—SO2
Designated area | Does not meet primary standards | Does not meet secondary standards | Cannot be classified | Better than national standards
* * * * * * * *
Lake County |  |  |  | X
* * * * * * * *

* * * * *

[FR Doc. 05-19065 Filed 9-23-05; 8:45 am]

BILLING CODE 6560-50-P